DEPARTMENT OF COMMERCE

International Trade Administration

[C-428-817]

Certain Cut-to-Length Carbon Steel Plate from Germany; Final Results of Countervailing Duty Administrative Reviews

AGENCY: Import Administration, International Trade Administration, Department of Commerce.

ACTION: Notice of Final Results of Countervailing Duty Administrative Reviews.

SUMMARY: On September 8, 2000, the Department of Commerce (the Department) published in the Federal Register its preliminary results of administrative reviews of the countervailing duty order on certain cut-to-length carbon steel plate from Germany for the periods calendar year 1997 and calendar year 1998 (65 FR 54496). The Department has now completed these administrative reviews in accordance with section 751(a) of the Tariff Act of 1930, as amended (the Act). For information on the net subsidy for each reviewed company, and for all non-reviewed companies, please see the “Final Results of Review” section of this notice. We will instruct the U.S. Customs Service (Customs) to assess countervailing duties as detailed in the “Final Results of Review” section of this notice.

EFFECTIVE DATE: January 17, 2001.

FOR FURTHER INFORMATION CONTACT: Robert Copyak, Office of AD/CVD Enforcement VI, Group II, Import Administration, International Trade Administration, U.S. Department of Commerce, 14th Street and Constitution Avenue, NW., Washington, DC 20230; telephone: (202) 482-2786.

SUPPLEMENTARY INFORMATION:

Background

Pursuant to 19 CFR 351.213(b), these administrative reviews cover only those producers or exporters of the subject merchandise for which the administrative reviews were specifically requested. Accordingly, these administrative reviews cover exporter Novosteel SA and producer Reiner Brach GmbH and Co. KG. We received timely allegations of additional subsidies, including allegations of upstream subsidies. We initiated examinations of three of these alleged subsidy programs and determined not to initiate examinations of the alleged upstream subsidy programs. See memorandum to Melissa G. Skinner, Director, Office of AD/CVD Enforcement VI, from Team, entitled 1997 and 1998 Administrative Reviews of the Countervailing Duty Order on Certain Cut-to-Length Carbon Steel Plate from Germany: Memorandum Regarding Affiliation, Cross-ownership, Upstream Subsidy Allegations, and Other Subsidy Allegations, dated August 23, 2000. (This memorandum is on file in public version form in the public file room of room B-099 of the main Commerce building.) These administrative reviews cover 39 programs and the periods calendar year 1997 and calendar year 1998.

On September 8, 2000, the Department published in the Federal Register its preliminary results of administrative reviews. See Certain Cut-to-Length Carbon Steel Plate From Germany; Preliminary Results of Countervailing Duty Administrative Reviews, 65 FR 54496 (Preliminary Results). We invited interested parties to comment on the Preliminary Results. We received comments on October 10, 2000, and on October 27, 2000.

Applicable Statute and Regulations

Unless otherwise indicated, all citations to the statute are references to the provisions of the Act, as amended by the Uruguay Round Agreements Act (URAA) effective January 1, 1995. The Department is conducting these administrative reviews in accordance with section 751(a) of the Act. In addition, unless otherwise indicated, all citations to the Department's regulations reference 19 CFR part 351 (1999).

Scope of the Review

The merchandise subject to these administrative reviews includes hot-rolled carbon steel universal mill plates (i.e., flat-rolled products rolled on four faces or in a closed box pass, of a width exceeding 150 millimeters but not exceeding 1,250 millimeters and of a thickness of not less than 4 millimeters, not in coils and without patterns in relief), of rectangular shape, neither clad, plated nor coated with metal, whether or not painted, varnished, or coated with plastics or other nonmetallic substances; and certain hot-rolled carbon steel flat-rolled products in straight lengths, of rectangular shape, hot rolled, neither clad, plated, nor coated with metal, whether or not painted, varnished, or coated with plastics or other nonmetallic substances, 4.75 millimeters or more in thickness and of a width which exceeds 150 millimeters and measures at least twice the thickness, as currently classifiable in the HTSUS under item numbers (7208.40.3030), (7208.40.3060), (7208.51.0030), (7208.51.0045), (7208.51.0060), (7208.52.0000), (7208.53.0000), (7208.90.0000), (7210.70.3000), (7210.90.9000), (7211.13.0000), (7211.14.0030), (7211.14.0045), (7211.90.0000), (7212.40.1000), (7212.40.5000), (7212.50.0000). Included in these administrative reviews are flat-rolled products of non-rectangular cross-section where such cross-section is achieved subsequent to the rolling process (i.e., products which have been “worked after rolling”)—for example, products which have been beveled or rounded at the edges. Excluded from these reviews is grade X-70 plate. Also excluded from these administrative reviews is certain carbon cut-to-length steel plate with a maximum thickness of 80 mm in steel grades BS 7191, 355 EM, and 355 EMZ, as amended by Sable Offshore Energy Project specification XB MOO Y 15 0001, types 1 and 2.

Analysis of Programs

Programs Determined To Be Not Used

We examined the following programs and determined, based on the questionnaire responses, that the producer and/or exporter of the subject merchandise did not apply for or receive benefits under these programs during the periods of review:

1. Capital Investment Grants

2. Investment Premium Act

3. Joint Scheme: Improvement of Regional Economic Structure—GA Investment Grants and Other GA Subsidies

4. Ruhr District Action Program

5. Aid for Closure of Steel Operations

6. Joint Program: Upswing East

7. Freight Programs under the Special Subsidies for Companies in the Zonal Border Area

8. Loan Guarantees under Treuhandanstalt Subsidies

9. Long-term Loans from the Kreditanstalt fur Wiederaufbau (KfW)

10. Tax Programs under Special Subsidies for Companies in the Zonal Border Area

11. Structural Improvement Aids

12. ECSC Article 54 Loans

13. ECSC Article 54 Interest Rebates

14. ECSC Redeployment Aid Under Article 56(2)(b)

15. ECSC Article 54 Loans

16. ECSC Article 54 Interest Rebates

17. Loans with Reduced Interest Rates under the Steel Restructuring Plan

18. Federal and State Government Loan Guarantees under the Steel Restructuring Plan

19. Special Ruhr Plan

20. Zukunftsinitiative Montaregionen (ZIM)

21. Kreditanstalt fur Wiederaufbau (KfW) Investment Loans for Eastern Germany

22. Deutsche Ausglechsbank Investment Loans for Eastern Germany

23. European Recovery Program Loans for Eastern Germany

24. Loan Guarantee Program Loans for Eastern Germany

25. Peine-Salzgitter Profit Transfer Agreement and Other Operation Loss Subsidies

26. Elimination of Duisburg Harbor Tolls

27. Export Credits at Preferential Rates

28. Miscellaneous Tax Subsidies

29. Loans from the Government of Nordrhein-Westphalen

30. Tax Subsidies for Eastern Germany

31. European Investment Bank Loans and Loan Guarantees

32. New Community Instrument Loans

33. European Regional Development Fund Aid

34. Nordrhein-Westphalen's Air Pollution Control Program

35. ECSC Article 54 Loan Guarantees

36. ECSC Article 56 Conversion Loans

37. European Social Funds Grants

38. Assistance Measures for the Companies within the Steel Industry to Partially Compensate for Costs of the Social Plans

39. Social Aid for the Workers in the Coal and Steel Industries

Analysis of Comments Received

The comments submitted by interested parties are addressed in the “Issues and Decision Memorandum” (Decision Memorandum) from Holly A. Kuga, Acting Deputy Assistant Secretary, Import Administration, to Troy H. Cribb, Assistant Secretary for Import Administration, dated January 8, 2000, which is hereby adopted by this notice. A list of the issues addressed is attached to this notice as Appendix I. The Decision Memorandum is a public document which is on file in room B-099 of the Main Commerce Building and can be accessed via the internet at the website http://ia.ita.doc.gov/frn and under the heading “Germany.” The paper copy and electronic version of the Decision Memorandum are identical in content.

Final Results of Administrative Reviews

In accordance with 19 CFR 351.221(b)(5), we calculated an individual subsidy rate for the producer/exporter subject to these administrative reviews. For the periods calendar year 1997 and calendar year 1998, we determine the net subsidy for Novosteel SA/Reiner Brach GmbH and Co. KG to be 0.00 percent ad valorem.

As provided for in the Act and 19 CFR 351.106(c)(1), any rate less than 0.5 percent ad valorem in an administrative review is de minimis. Accordingly, no countervailing duties will be assessed. The Department will instruct Customs to liquidate, without regard to countervailing duties, shipments of the subject merchandise from Novosteel SA produced by Reiner Brach GmbH and Co. KG, exported on or after January 1, 1997 through December 31, 1997 and January 1, 1998 through December 31, 1998. Also, the cash deposits for this producer will be zero.

Because the URAA replaced the general rule in favor of a country-wide rate with a general rule in favor of individual rates for investigated and reviewed companies, the procedures for establishing countervailing duty rates, including those for non-reviewed companies, are now essentially the same as those in antidumping cases, except as provided for in section 777A(e)(2)(B) of the Act. The requested review will normally cover only those companies specifically named. See 19 CFR 351.213(b). Pursuant to 19 CFR 351.212(c), for all companies for which a review was not requested, duties must be assessed at the cash deposit rate, and cash deposits must continue to be collected, at the rate previously ordered. As such, the countervailing duty cash deposit rate applicable to a company can no longer change, except pursuant to a request for a review of that company. See Federal-Mogul Corporation and The Torrington Company v. United States, 822 F.Supp. 782 (CIT 1993) and Floral Trade Council v. United States, 822 F.Supp. 766 (CIT 1993) (interpreting 19 CFR 353.22(e), the prior antidumping regulation on automatic assessment, which was identical to 19 CFR 355.22(g)). Therefore, the cash deposit rates for all companies except those covered by these reviews will be unchanged by the results of these reviews.

We will instruct Customs to continue to collect cash deposits for non-reviewed companies at the most recent company-specific or country-wide rate applicable to the company. Accordingly, the cash deposit rates that will be applied to non-reviewed companies covered by this order will be the rate for that company established in the most recently completed administrative proceeding conducted under the URAA. If such a review has not been conducted, the rate established in the most recently completed administrative proceeding pursuant to the statutory provisions that were in effect prior to the URAA amendments is applicable. See Final Affirmative Countervailing Duty Determinations: Certain Steel Products from Germany, 58 FR 37315 (July 9, 1993). This rate shall apply to the non-reviewed companies until a review of a company assigned these rates is requested. In addition, for the periods calendar year 1997 and calendar year 1998, the assessment rates applicable to all non-reviewed companies covered by this order are the cash deposit rates in effect at the time of entry.

This notice serves as a reminder to parties subject to administrative protective order (APO) of their responsibility concerning the disposition of proprietary information disclosed under APO in accordance with 19 CFR 351.305(a)(3). Timely written notification of return/destruction of APO materials or conversion to judicial protective order is hereby requested. Failure to comply with the regulations and the terms of an APO is a sanctionable violation.

These administrative reviews and this notice are issued and published in accordance with sections 751(a)(1) and 777(i)(1) of the Act.

Dated: January 8, 2001.
Troy H. Cribb,
Assistant Secretary for Import Administration.

APPENDIX 1—Issues Discussed in Decision Memorandum

Analysis of Comments

1. Upstream Subsidy Allegations

2. Need to Conduct Verification

3. Attribution of Subsidies

[FR Doc. 01-1382 Filed 1-16-01; 8:45 am]

BILLING CODE 3510-DS-P